DEPARTMENT OF LABOR

Employment and Training Administration

Notice of a Change in Status of the Extended Benefit (EB) Program for Michigan

AGENCY: Employment and Training Administration, Labor.

ACTION: Notice.

This notice announces a change in benefit period eligibility under the EB program for Michigan. The following change has occurred since the publication of the last notice regarding the States' EB status:

Michigan has enacted new legislation which provides for the temporary adoption of the total unemployment rate (TUR) trigger during the current period of 100% Federal financing. Based on data released by the Bureau of Labor Statistics on October 20, 2020, the seasonally-adjusted total unemployment rates for Michigan exceeded 8.0 percent was greater than 110 percent in both the prior or second prior year, triggering Michigan “on” to a high unemployment periods (HUP) in EB. Based on the enacted State legislation, the HUP trigger became effective the week ending October 24, 2020 and the maximum potential entitlement for claimants in the EB program increase from 13 weeks to 20 weeks on November 8, 2020. The trigger notice covering state eligibility for the EB program can be found at: http://ows.doleta.gov/unemploy/claims_arch.as

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

Signed in Washington, DC.
John Pallasch,
Assistant Secretary for Employment and Training.

[FR Doc. 2020-25964 Filed 11-23-20; 8:45 am]

BILLING CODE 4510-FW-P